DEPARTMENT OF ENERGY

Federal Energy Regulatory Commission

[P-13123-002-CA]

Eagle Mountain Pumped Storage Hydroelectric Project; Eagle Crest Energy; Notice of Teleconference

a. Date and Time of Meeting: Friday, April 15, 2011 at 9 a.m. (Pacific Time).

b. Place: By copy of this notice we are inviting all interested parties to attend a teleconference from their location.

c. FERC Contact: Kenneth Hogan, (202) 502-8434: Kenneth.Hogan@ferc.gov.

d. Purpose of the Meeting: Commission staff will be meeting with the staff of the U.S. Fish and Wildlife Service and Eagle Crest Energy as part of its on-going Section 7 Endangered Species Act consultation efforts.

e. All local, state, and federal agencies, tribes, and interested parties, are hereby invited to listen in on the teleconference. The phone number and passcode to the teleconference will be provided upon a request made by interested parties. Please make that request to Ms. Ginger Gillian, representative of Eagle Crest Energy, via e-mail at: ggillin@geiconsultants.com; or via telephone at: 503-697-1478. All requests for the teleconference phone number and passcode must be made no later than 3 p.m. (Pacific Time), Wednesday, April 13, 2011.

Dated: March 15, 2011.
Kimberly D. Bose,
Secretary.

[FR Doc. 2011-6615 Filed 3-21-11; 8:45 am]

BILLING CODE 6717-01-P